FEDERAL MARITIME COMMISSION

Notice of Correction to Notice of Agreements Filed

The Commission hereby gives notice that the Notice of Agreements Filed, published on April 2, 2014, 79 FR 18550, was published in error and was a duplicate of a Notice published on March 27, 2014, 79 FR 17153. Interested parties who wish to submit comments on the agreements noticed should comply with the instructions in the March 27, 2014 notice.

Dated: April 2, 2014.
Rachel E. Dickon,
Assistant Secretary.

[FR Doc. 2014-07771 Filed 4-7-14; 8:45 am]

BILLING CODE 6730-01-P